DEPARTMENT OF EDUCATION

[Docket No.: ED-2026-SCC-0267]

Agency Information Collection Activities; Comment Request; Report of the Randolph-Sheppard Vending Facility Program

AGENCY: Office of Special Education and Rehabilitative Services (OSERS), Department of Education (ED).

ACTION: Notice.

SUMMARY: In accordance with the Paperwork Reduction Act (PRA) of 1995, the Department is proposing a revision of a currently approved information collection request (ICR).

DATES: Interested persons are invited to submit comments on or before April 24, 2026.

ADDRESSES: To access and review all the documents related to the information collection listed in this notice, please use http://www.regulations.gov by searching the Docket ID number ED-2026-SCC-0267. Comments submitted in response to this notice should be submitted electronically through the Federal eRulemaking Portal at http://www.regulations.gov by selecting the Docket ID number or via postal mail, commercial delivery, or hand delivery. If the regulations.gov site is not available to the public for any reason, the Department will temporarily accept comments at ICDocketMgr@ed.gov. Please include the docket ID number and the title of the information collection request when requesting documents or submitting comments. Please note that comments submitted after the comment period will not be accepted. Written requests for information or comments submitted by postal mail or delivery should be addressed to the Office of Special Education and Rehabilitative Services, U.S. Department of Education, 400 Maryland Ave. SW, LBJ, Room 4A114, Washington, DC 20202-1200.

FOR FURTHER INFORMATION CONTACT: For specific questions related to collection activities, please contact Jesse Hartle, 202-245-6411.

SUPPLEMENTARY INFORMATION: The Department, in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. The Department is soliciting comments on the proposed information collection request (ICR) that is described below. The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Report of the Randolph-Sheppard Vending Facility Program.

OMB Control Number: 1820-0009.

Type of Review: A revision of a currently approved ICR.

Respondents/Affected Public: State, Local, and Tribal Governments.

Total Estimated Number of Annual Responses: 51.

Total Estimated Number of Annual Burden Hours: 1,199.

Abstract: The Randolph-Sheppard Act (Act) provides persons who are blind with remunerative employment and self-support through the operation of vending facilities on Federal and other property. The program, enacted into law in 1936, was intended to enhance employment opportunities for trained, licensed blind persons to operate vending facilities. At the outset, the program placed sundry stands in the lobbies of Federal office buildings and post offices, selling such items as newspapers, magazines, candies, and tobacco products. The law was subsequently amended in 1954 and again in 1974 to ensure individuals who are blind a priority in the operation of vending facilities, which now include cafeterias, military dining facilities, snack bars, interstate highway rest areas, and automatic vending machines on Federal property. Most States also have programs that include State, county, municipal, and private installations.

The licensing and operation of vending facilities by blind vendors under the Act is supported by a combination of VR program funds, State appropriations, Federal vending machine income, and levied set asides from vendors. As required by 20 U.S.C. 107a(6)(a), the Secretary of Education, through the Commissioner of the Rehabilitation Services Administration (RSA), conducts periodic evaluations of the programs authorized under the Act. In addition, section 107b(4) requires entities designated as the State licensing agency (SLA) to “make such reports in such form and containing such information as the Secretary may from time to time require. . . .” The information to be collected is a necessary component of the evaluation process and forms the basis for reporting to the Department. The data are also used to understand the distribution type and profitability of vending facilities throughout the country. Such information is useful in providing technical assistance to SLAs and property managers and in monitoring the implementation of the program. The Code of Federal Regulations, at 34 CFR 395.8, specifies that vending machine income received by the Date from Federal property managers can be distributed to blind vendors in an amount not to exceed the national average income for blind vendors. This amount is determined through data collected by the RSA-15: Report of Randolph-Sheppard Vending Facility Program. In addition, the collection of information ensures the provision and transparency of activities referenced in 34 CFR 395.12 related to disclosure of program and financial information and assists with the requirement in 34 CFR 395.11 regarding the provision of training.

This information collection (IC) will be implemented upon the expiration of the current IC on October 31, 2026; however, it is requested to begin the use of this form and the new instructions for the FY 2026 data collection beginning on October 1, 2026. The 51 SLAs will submit their data through the RSAMIS on the rsa.ed.gov website during the 90-day data collection period (10/1/2026-12/30/2026).

Ross Santy,
Chief Data Officer, Office of Planning, Evaluation and Policy Development.

[FR Doc. 2026-03543 Filed 2-20-26; 8:45 am]

BILLING CODE 4000-01-P